DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by contacting John Rembosek, Ph.D., at the Office of Technology Transfer, National Institutes of Health, 6011 Executive Boulevard, Suite 325, Rockville, Maryland 20852-3804; telephone: 301/496-7056 ext. 270; fax: 301/402-0220; e-mail: jr312d@nih.gov. A signed Confidential Disclosure Agreement will be required to receive copies of the patent applications.

Methods and Compositions for Correlating CCR5 Expression With Essential Hypertension

Dr. Thomas O'Brien (NCI)

DHHS Reference Number E-257-99/0 filed October 14, 1999

Hypertension is a disease which afflicts as many as 1 in 5 persons in the United States and is the most common cause of visits to physicians. Once diagnosed with hypertension, treatment of the disease is lifelong. There is mounting evidence that lifestyle changes can prevent the usual rise in blood pressure with age, but for patients whose hypertension cannot be adequately treated by lifestyle changes, drug therapy must be instigated which can be difficult to control and have adverse side affects.

The present invention mutation in the CC-chemokine receptor 5 (CCR5) gene and an increased risk of developing hypertension. This technology will allow for the screening of individuals for the presence of the CCR5-D32/D32 genotype which correlates with an increased risk of developing hypertension and possibly prevent its occurrence through adequate antihypertensive therapy.

This technology may lead to a method of treating or preventing hypertension through the administration of: (1) an effective amount of a CCR5 expression enhancing agent; (2) CCR5 activity enhancing agent; (3) an effective amount of CCR5; or (4) an effective amount of a nucleic acid encoding CCR5. Also, this technology can be employed as a method of identifying an agent that could be used to treat or prevent hypertension through the above identified processes.

Cloning of the Human Nuclear Receptor Co-Repressor Gene

Johnson M. Liu, Jianxiang Wang (NHLBI)

DHHS Reference No. E-088—99/0 filed August 3, 1999

Alteration in the expression of human genes is critical to the development and progression of many diseases. These include, among others, cancer, inflammation, cardiovascular disease, hypercholesterolemia, high blood pressure, and diabetes. The Human Nuclear Receptor Co-Repressor (HuN-Cor) gene represents a technology that may be used to alter the transcription of genes. It provides a general mechanism by which many genes may be modulated throughout the entire range of being turned on to being completely turned off. The Hun-Cor gene is a ubiquitously expressed gene that codes for a protein that silences other genes. It does this by recruiting an enzyme complex that causes local folding of chromatin, not allowing other transcription factors to work. Hun-Cor represents a powerful research tool that can be used to study gene expression and characterization for many different genes. It may also be useful as a target for the isolation of pharmaceutical compounds that enhance or inhibit expression of genes.

Dated: April 7, 2000.
Jack Spiegel,
Director, Division of Technology Development and Transfer, Office of Technology Transfer, National Institutes of Health.

[FR Doc. 00-9430 Filed 4-14-00; 8:45 am]

BILLING CODE 4140-01-M